DEPARTMENT OF TRANSPORTATION

Federal Aviation Administration

Fifth Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The meeting will be held January 22-23, 2007, at 9 a.m.

ADDRESSES: The meeting will be held at Continental Airlines, 600 Jefferson Street, Concourse Level—Training Room C, Houston, TX 77002.

FOR FURTHER INFORMATION CONTACT: RTCA Secretariat, 1828 L Street, NW., Suite 805, Washington, DC 20036; telephone (202) 833-9339; fax (202) 833-9434; Web site http://www.rtca.org for directions. POC: Mr. David Pitoniak, Phone: 713-324-3907. Note: Dress is Business Casual.

SUPPLEMENTARY INFORMATION: Pursuant to section 10(a)(2) of the Federal Advisory Committee Act Pub. L. 92-463, 5 U.S.C., Appendix 2), notice is hereby given for a Special Committee 215 meeting. The agenda will include:

• January 22:

• Opening Plenary Session (Welcome, Introductions, and Administrative Remarks, Review and Approval of Agenda for Fifth Plenary.

• Review and Approval of Fourth Meeting Summary (215-045; RTCA Paper No. 295-07/SC215-011).

• Review of Action List Outstanding Actions.

• DO-262 Normative Appendix.

• Report from DO-262 Working Groups.

• Review and Discussion of Remaining Sections.

• DO-270—Normative Appendix.

• Overview of Approach for Normative Appendix.

• Review of DO-270 Normative Appendix.

• Closing Plenary Session (Other Business, Schedule Next Plenary Meeting, Adjourn—Wednesday, January 23, 2007; 12 noon).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 7, 2007.
Editoral Note: This document was received at the Office of the Federal Register December 7, 2007.
Robert L. Bostiga,
RTCA Advisory Committee (Acting).

[FR Doc. 07-6037 Filed 12-12-07; 8:45 am]

BILLING CODE 4910-13-M